EXPORT IMPORT BANK OF THE UNITED STATES

Committee Management; Notice of Establishment

AGENCY: Export Import Bank of the United States.

ACTION: Notice of establishment of Advisory Committee.

SUMMARY: The President and Chairman of the Export-Import Bank of the United States (“Ex-Im Bank”) has determined that the establishment of the Advisory Committee on Renewable Energy Exports (“Committee”) is necessary and in the public interest in connection with the mission of the Ex-Im Bank, pursuant to sections 2(b)(1)(C) and 11(b) of the Export-Import Bank Act of 1945, as amended (12 U.S.C. 635 (b)(1)(C) and 635i-5(b)). This determination follows consultation with the Committee Management Secretariat, General Services Administration.

The Committee will consist of twelve members who will provide advice and recommendations to Ex-Im Bank concerning non-nuclear renewable energy exports. Ex-Im Bank will achieve balanced membership on the Committee by inviting a broad cross-section of parties with an interest in renewable energy exports to serve on the Committee. The Committee will operate on a continuing basis.

ADDRESSES: Export Import Bank of the United States, 811 Vermont Ave., NW., Washington, DC 20571.

FOR FURTHER INFORMATION CONTACT: James Lambright, Export Import Bank of the United States at (202) 565-3515.

Dated: February 11, 2002.
James Lambright,
Committee Management Officer.

[FR Doc. 02-4136 Filed 2-20-02; 8:45 am]

BILLING CODE 6690-01-M